DEPARTMENT OF HEALTH AND HUMAN SERVICES

Administration for Children and Families

Submission for Office of Management and Budget (OMB) Review; Information Comparison With Insurance Data

AGENCY: Office of Child Support Services, Administration for Children and Families, Department of Health and Human Services.

ACTION: Request for public comments.

SUMMARY: The Office of Child Support Services (OCSS), Administration for Children and Families (ACF), is requesting the OMB to extend approval of the Information Comparison with Insurance Data, with minor changes, for an additional three years. The current OMB approval (OMB No.: (0970-0342) expires January 31, 2024.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Deficit Reduction Act of 2005 amended section 452 of the Social Security Act to authorize the Health and Human Services Secretary, through the Federal Parent Locator Service, to conduct comparisons of information concerning individuals owing past-due child support with information maintained by insurers (or their agents) concerning insurance claims, settlements, awards, and payments. On a daily basis, OCSS sends the results of the insurance data match in an “Insurance Match Response Record” to child support agencies, that use the insurance data matches to collect past-due support from the insurance proceeds. OCSS incorporated a separate burden calculation for respondents opting to electronically report quarterly.

Respondents: Insurers or their agents, including the U.S. Department of Labor and state agencies administering workers' compensation programs, and the Insurance Services Office.

Annual Burden Estimates
Collection instrument | Total number of respondents | Total number of responses per respondent | Average burden hours per response | Total annual burden hours
Insurance Match File: Quarterly Reporting Electronically | 1 | 4 | 0.083 | 0.33
Insurance Match File: Monthly Reporting Electronically | 26 | 12 | 0.083 | 25.90
Insurance Match File: Weekly Reporting Electronically | 19 | 52 | 0.083 | 82.00
Insurance Match File: Daily Reporting Electronically | 1 | 251 | 0.083 | 20.83
Match File: Daily Reporting Manually | 118 | 251 | 0.1 | 2,961.80

Estimated Total Annual Burden Hours: 3,090.53.

Authority: 42 U.S.C. 652(a)(9), 42 U.S.C. 653(a)(1) and 42 U.S.C. 652(m).

Mary B. Jones,
ACF/OPRE Certifying Officer.

[FR Doc. 2023-24857 Filed 11-9-23; 8:45 am]

BILLING CODE 4184-41-P